INTERNATIONAL TRADE COMMISSION

[Inv. No. 337-TA-502]

Certain Automobile Tail Light Lenses and Products Incorporating Same; Notice of Commission Determination Not To Review the Initial Determination of the Presiding Administrative Law Judge Granting Summary Determination of Non Infringement; Termination of the Investigation

AGENCY: International Trade Commission.

ACTION: Notice.

SUMMARY: Notice is hereby given that the U.S. International Trade Commission has determined not to review the initial determination (ID) of the presiding administrative law judge (“ALJ”) granting summary determination of non infringement. This determination results in the termination of the above-captioned investigation. The Commission has also determined to grant complainants' motion to supplement their petition for review of the ID and to deny complainants' motion for leave to file a reply to the oppositions to their petition for review of the ID.

FOR FURTHER INFORMATION CONTACT: Jean Jackson, Esq., telephone (202) 205-3104, Office of the General Counsel, U.S. International Trade Commission, 500 E Street, SW., Washington, DC 20436. Copies of all nonconfidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on the matter can be obtained by contacting the Commission's TDD terminal at (202) 205-1810.

SUPPLEMENTARY INFORMATION: The Commission instituted the above-referenced investigation on January 7, 2004, under section 337 of the Tariff Act of 1930, 19 U.S.C. 1337, based on a complaint filed by Jens Ole Sorensen and Jens E. Sorensen, as Trustee of the Sorensen Research and Development Trust. 69 FR 937. The Commission named Daimler-Chrysler AG of Stuttgart, Bade-Wuerttemberg, Germany and Mercedes-Benz USA, LLC of Montvale, New Jersey as respondents. Id.

On July 9, 2004, the ALJ issued an ID granting a motion filed by respondents for summary determination of non infringement. Complainants petitioned for review of the ID on July 22, 2004. On July 28, 2004, complainants filed a motion to supplement their petition. Respondent and the Commission investigative attorney filed separate oppositions to complainants' petition for review on July 29, 2004. Complainants filed a motion for leave to file a reply to the oppositions to their petition on August 5, 2004.

This action is taken under the authority of section 337 of the Tariff Act of 1930, as amended (19 U.S.C. 1337), and section 210.42 (h) of the Commission's Rules of Practice, 19 CFR 210.75(h).

Issued: August 20, 2004.
By order of the Commission.
Marilyn R. Abbott,
Secretary to the Commission.

[FR Doc. 04-19408 Filed 8-24-04; 8:45 am]

BILLING CODE 7020-02-P